DEPARTMENT OF COMMERCE

National Oceanic and Atmospheric Administration

RIN 0648-XA602

Marine Mammals; File Nos. 16109 and 15575

AGENCY: National Marine Fisheries Service (NMFS), National Oceanic and Atmospheric Administration (NOAA), Commerce.

ACTION: Notice; receipt of applications.

SUMMARY: Notice is hereby given that GeoMarine, Inc. [File No. 16109] (Responsible Party: Jason Holt See; Principal Investigator: Amy Whitt), 2201 K Avenue, Suite A2, Plano, TX 75074 and Robert DiGiovanni Jr. [File No. 15575], Riverhead Foundation for Marine Research and Preservation, 467 East Main St., Riverhead, NY 11901 have applied in due form for permits to conduct research on marine mammals and sea turtles.

DATES: Written, telefaxed, or e-mail comments must be received on or before September 16, 2011.

ADDRESSES: The applications and related documents are available for review by selecting “Records Open for Public Comment” from the Features box on the Applications and Permits for Protected Species (APPS) home page, https://apps.nmfs.noaa.gov, and then selecting File No. 16109 or 15575 from the list of available applications.

These documents are also available upon written request or by appointment in the following offices:

Permits, Conservation and Education Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Written comments on these applications should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Joselyd Garcia-Reyes or Laura Morse (301) 427-8401.

SUPPLEMENTARY INFORMATION: The subject permits are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Each application is summarized below. For specific take numbers of each species, please refer to the associated application.

GeoMarine, Inc. [File No. 16109], requests a permit to conduct scientific research on 35 species of cetaceans, four species of pinnipeds, five species of sea turtles from New Jersey to North Carolina. The purpose of the research is to assess the distribution, abundance, behavior, and migration of these species in nearshore waters of southern New Jersey to North Carolina, which is a region of significant potential offshore wind farm development. Eleven of the 44 species to be targeted for research are listed as threatened or endangered: blue whale (Balaenoptera musculus), fin whale (B. physalus), humpback whale (Megaptera novaeangliae), North Atlantic right whale (Eubalaena glacialis), sei whale (B. borealis), sperm whale (Physeter macrocephalus), green sea turtle (Chelonia mydas), hawksbill sea turtle (Eretmochelys imbricata), loggerhead sea turtle (Caretta caretta), Kemp's ridley sea turtle (Lepidochelys kempii), and leatherback sea turtle (Dermochelys coriacea). Types of take would include harassment by survey approach during shipboard transect surveys. The permit would be valid for a period of five years.

Robert Di Giovanni, Jr. [File No. 15575], requests a permit to conduct photo-identification surveys from both aerial and vessel platforms to assess seasonal abundance and distribution of the North Atlantic right whale and 43 other protected marine mammal and sea turtle species in U.S. coastal waters from North Carolina to Massachusetts. This research would enhance the survey work performed by the Northeast Fisheries Science Center (NEFSC) Sighting Advisory System and the Atlantic Marine Assessment Program for Protected Species surveys. Eleven of the 44 species to be targeted for research are listed as threatened or endangered. Additional pinniped research would include the placement of remote camera systems at pinniped haul out sites for long term monitoring of behavior and abundance, and pinniped scat would be collected for health assessment studies. Opportunistic sighting data would be collected during vessel transits to and from pinniped haul out sites. The permit would be valid for a period of five years.

A draft environmental assessment (EA) has been prepared in compliance with the National Environmental Policy Act of 1969 (42 U.S.C. 4321 et seq.), to examine whether significant environmental impacts could result from issuance of the proposed scientific research permit. The draft EA is available for review and comment simultaneous with the scientific research permit applications.

Concurrent with the publication of this notice in the Federal Register, NMFS is forwarding copies of the application to the Marine Mammal Commission and its Committee of Scientific Advisors.

Dated: August 11, 2011.
P. Michael Payne,
Chief, Permits, Conservation and Education Division, Office of Protected Resources, National Marine Fisheries Service.

[FR Doc. 2011-21003 Filed 8-16-11; 8:45 am]

BILLING CODE 3510-22-P